NATIONAL SCIENCE FOUNDATION

Special Emphasis Panel in Civil and Mechanical Systems; Notice of Meeting

In accordance with the Federal Advisory Committee Act (Pub. L. 92-463, as amended), the National Science Foundation announces the following Meeting.

Name: Special Emphasis Panel in Civil and Mechanical Systems (1205).

Date/Time: December 7-8, 2000; 8 a.m. to 5 p.m.

Place: National Science Foundation, 4201 Wilson Blvd., Room 850, Arlington, VA.

Type of Meeting: Closed.

Contact Person: Dr. Joy Pauschke, Program Director, network for Earthquake Engineering Simulation, Division of Civil and Mechanical Systems, National Science Foundation, Room 545, Arlington, VA 22230. Telephone: (703) 292-8360.

Purpose of Meeting: To provide advice and recommendations concerning proposals submitted to NSF for financial support.

Agenda: To review and evaluate nominations for the FY'01 Mechanics and Structures of Materials and Surface Engineering and Material Design Review as part of the selection process for awards.

Reason for Closing: The proposals being reviewed include information of a proprietary or confidential nature, including technical information; financial data, such as salaries and personal information concerning individuals associated with the proposals. These matters are exempt under 5 U.S.C. 552b(c)(4) and (6) of the Government in the Sunshine Act.

Dated: October 31, 2000.
Karen J. York,
Committee Management Officer.

[FR Doc. 00-28401 Filed 11-3-00; 8:45 am]

BILLING CODE 7555-01-M